DEPARTMENT OF LABOR

Employment and Training Administration

[TA-W-40,233]

Garan Manufacturing, Adamsville, Tennessee; Amended Certification Regarding Eligibility To Apply for Worker Adjustment Assistance

In accordance with section 223 of the Trade Act of 1974 (19 U.S.C. 2273) the Department of Labor issued a Certification of Eligibility to Apply for Worker Adjustment Assistance on December 20, 2001, applicable to all workers of Garan Manufacturing located in Adamsville, Tennessee. The notice was published in the Federal Register on January 11, 2002 (67 FR 1509).

At the request of the State agency, the Department reviewed the certification for workers of the subject firm. Information contained in the files show that workers engage in employment related to sewing children's shirts at Garan, Incorporated, Adamsville, Tennessee, were certified eligible to apply for TAA under petition TA-W-36,729, which did not expire until October 13, 2001. In order to not exclude any potential worker eligibility, and in order avoid an overlap in worker group coverage for the Garan workers in Adamsville, Tennessee, the Department is amending this certification to change the impact date to October 2, 2000 for all workers of the firm except those workers engaged in “sewing” prior to October 13, 2001 (those workers that would have been covered under TA-W-36,729).

The amended notice applicable to TA-W-40,233 is hereby issued as follows:

All workers of Garan Manufacturing, Adamsville, Tennessee, who became totally or partially separated from employment on or after October 2, 2000, through December 20, 2003, are eligible to apply for adjustment assistance under Section 223 of the Trade Act of 1974. Workers engaged in “sewing” prior to October 13, 2001 were covered under certification TA-W-36,729 and are covered under this certification beginning October 14, 2001, through December 20, 2003.

Signed in Washington, DC this 14th day of February 2002.
Edward A. Tomchick,
Director, Division of Trade Adjustment Assistance.

[FR Doc. 02-5590 Filed 3-7-02; 8:45 am]

BILLING CODE 4510-30-M